DEPARTMENT OF LABOR

Solicitation of Nominations for the United States Department of Labor's Iqbal Masih Award for the Elimination of Child Labor

The United States Department of Labor's Iqbal Masih Award for the Elimination of Child Labor presented by Secretary Hilda Solis, United States Department of Labor, 200 Constitution Avenue, NW., Washington, DC 20210:

1. Subject: The United States Department of Labor's Iqbal Masih Award for the Elimination of Child Labor.

2. Purpose: To outline the eligibility criteria, the nomination process and the administrative procedures for the United States Department of Labor's Iqbal Masih Award for the Elimination of Child Labor, and to solicit nominations for the United States Department of Labor's Iqbal Masih Award for the Elimination of Child Labor.

3. Originator: Office of Child Labor, Forced Labor and Human Trafficking of the Bureau of International Labor Affairs (ILAB/OCFT).

4. Background: The award is to recognize exceptional efforts to reduce the worst forms of child labor and is in response to Senate Committee direction (Significant Report 110-107 DM/ILAB), that the Secretary of Labor:

Establish an annual non-monetary award recognizing the extraordinary efforts by an individual, company, organization or national government toward the reduction of the worst forms of child labor. The award shall be named, “the United States Department of Labor's Iqbal Masih Award for the Elimination of Child Labor.” Iqbal Masih was a Pakistani carpet weaver sold into slavery at age four. He escaped from his servitude at age 12 and became an outspoken advocate against child slavery. He told the world of his plight when he received the Reebok Human Rights Award in 1994. He was tragically killed a year later at the age of 13 in his native Pakistan.

In view of inspiring and motivating those who are working to eliminate the worst forms of child labor, the award's two major goals are to:

a. Honor and give public recognition to a recipient demonstrating extraordinary efforts to combat the worst forms of child labor internationally, and who shares qualities demonstrated by Iqbal Masih including leadership, courage, integrity, and a search to end the labor exploitation of children, and,

b. Raise awareness about the worst forms of child labor internationally.

5. Eligibility and Selection Criteria:

A. The nominees may include individuals, companies, organizations, or national governments and nominations may be submitted by other persons and entities with the knowledge and permission of the nominee.

B. Nominees for the United States Department of Labor's Iqbal Masih Award for the Elimination of Child Labor will be judged by the following selection criteria:

1. Implemented extraordinary efforts that contribute towards the reduction of the worst forms of child labor.

2. Generated positive international attention in support of efforts to reduce the worst forms of child labor.

3. Inspired others, including young persons, to become champions against the worst forms of child labor following the spirit and example of Iqbal Masih.

4. Fomented constructive change regarding the labor exploitation of children under great odds or at great personal cost.

6. Nomination Submission Requirements:

A. Nominations must identify the proposed candidate and include a justification statement.

B. The nomination packages should be limited to information relevant to the nominee. Nomination packages should be no longer than two (2) typed pages double-spaced. A page is 8.5 × 11 (on one side only) with one-inch margins (top, bottom, and sides).

C. Nomination packages must include the following for consideration:

1. An executive summary about the nominee, which clearly identifies the specific attributes of the nominee relevant to the selection criteria as listed in Section 5(B).

2. A data summary on the nominee. See Section 6(D).

D. A data summary on the nominee will include the following:

1. Name(s) of the individual, company, organization or national government being nominated.

2. Full street address, telephone number and e-mail address of nominee.

3. Name, title, street address, telephone number and e-mail address of the person or organization submitting the nomination.

E. Timing and Acceptable Methods of Submission of Nominations:

Nomination packages must be submitted to The United States Department of Labor's Iqbal Masih Award for the Elimination of Child Labor, Office of Child Labor, Forced Labor and Human Trafficking, Room S-5317, 200 Constitution Avenue, NW., Washington, DC 20210 by September 30, 2011. Any application received after 4:45 p.m. EDT on September 30, 2011 will not be considered unless it was received before the award is made and:

1. It was sent by registered or certified mail no later than September 15, 2011.

2. It is determined by the Government that the late receipt was due solely to mishandling by the Government after receipt at the U.S. Department of Labor at the address indicated; or

3. It was sent by U.S. Postal Service Express Mail Next Day Service—Post Office to Addressee, not later than 5 p.m. EDT at the place of mailing, September 29, 2011.

The only acceptable evidence to establish the date of mailing of a late application sent by registered or certified mail is the U.S. Postal Service postmark on the envelope or wrapper and on the original receipt from the U.S. Postal Service. If the postmark is not legible, an application received after the above closing time and date will be processed as if mailed late. “Postmark” means a printed, stamped, or otherwise placed impression (not a postage meter machine impression) that is readily identifiable without further action as having been applied and affixed by an employee of the U.S. Postal Service on the date of mailing. Therefore, applicants should request that the postal clerk place a legible hand cancellation “bull's-eye” postmark on both the receipt and the envelope or wrapper.

The only acceptable evidence to establish the time of receipt at the U.S. Department of Labor is the date/time stamp of the ILAB/OCFT on the application wrapper or other documentary evidence or receipt maintained by that office. Applications sent by other delivery services, such as Federal Express, UPS, e-mail (to cook.katherine@dol.gov), etc., will also be accepted; however, the applicant bears the responsibility of timely submission.

Confirmation of receipt of your application can be made by contacting Katie Cook, by e-mail cook.katherine@dol.gov, telephone (202) 693-4838, or OCFT telephone (202) 693-4843, prior to the closing deadline.

4. The U.S. Department of Labor will also consider nomination packages from previous years that were deemed responsive but not yet selected for award.

7. The Administrative Review Process:

A. ILAB/OCFT will perform a preliminary administrative review to determine the sufficiency of all submitted application packages relative to the selection criteria listed in Section 5(B).

B. ILAB/OCFT will conduct an initial substantive review of the nominations received and will identify a short list of candidates to be considered.

C. A panel of Department of Labor representatives will perform a secondary review to make a determination of the semi-finalists.

D. The Secretary of Labor will conduct the final review and selection.

8. Other Factors to be Considered During the Administrative Review Process: Receipt of this award will not preclude a nominee from being considered for the United States Department of Labor's Iqbal Masih Award for the Elimination of Child Labor in subsequent years. Specific accomplishments that served as the basis of a prior award, however, may not be considered as the basis for a subsequent award application.

9. Procedures Following Selection: The awardee will be notified of selection via the contact person identified in the application package at least four weeks prior to the awards ceremony.

10. Location: The Department of Labor anticipates that the awards ceremony will be held in late 2011 or early 2012 at a location to be determined by the Secretary of Labor.

Paperwork Reduction Act Notice (Pub. L. 104-13): Persons are not required to respond to a collection of information unless it displays a currently valid Office of Management and Budget (OMB) control number. This collection of information is approved under OMB Number 1290-0007 (Expiration Date: 12/31/2012). The obligation to respond to this information collection is voluntary; however, only nominations that follow the nomination procedures outlined in this notice will receive consideration. The average time to respond to this information of collection is estimated to be 10 hours per response; including the time for reviewing instructions, researching existing data sources, gathering and maintaining the data needed, and completing and reviewing the collection of information. Submit comments regarding this estimate; including suggestions for reducing response time or for improving any aspect of this collection of information to the Departmental Clearance Officer, U.S. Department of Labor, Office of the Chief Information Officer, Room N-1301, 200 Constitution Avenue, NW., Washington DC 20210 or e-mail to DOL_PRA_PUBLIC@dol.gov. Please do not send completed nominations to this address.

We are very interested in your thoughts and suggestions about your experience in preparing and filing this nomination packet for the United States Department of Labor's Iqbal Masih Award for the Elimination of Child Labor. Your comments will be very useful to the ILAB/OCFT in making improvements in our solicitation for nominations for this award in subsequent years. All comments are strictly voluntary and strictly private. We would appreciate your taking a few minutes to tell us—for example, whether you thought the instructions were sufficiently clear; what you liked or disliked; what worked or didn't work; whether it satisfied your need for information or if it didn't, or anything else that you think is important for us to know. Your comments will be most helpful if you can be very specific in relating your experience.

Please send any comments you have to Katie Cook at cook.katherine@dol.gov or via mail to the U.S. Department of Labor, Office of Child Labor, Forced Labor, and Human Trafficking, Room S-5317, 200 Constitution Avenue, NW., Washington, DC 20210.

Sandra Polaski,
Deputy Undersecretary for International Affairs.

[FR Doc. 2011-20085 Filed 8-8-11; 8:45 am]

BILLING CODE 4510-28-P